DEPARTMENT OF DEFENSE

Department of the Army; Corps of Engineers

Intent To Prepare a Draft Supplemental Environmental Impact Statement (SEIS), Mississippi Barrier Island Restoration, Mississippi Coastal Improvements Program (MsCIP) for Hancock, Harrison, and Jackson Counties, MS

AGENCY: Department of the Army, U.S. Army Corps of Engineers, DOD.

ACTION: Notice of intent.

SUMMARY: The Mobile District, U.S. Army Corps of Engineers (Corps), intends to prepare a Draft Supplemental Environmental Impact Statement (DSEIS) to the MsCIP Comprehensive Plan and Integrated Programmatic EIS, prepared in June 2009, which evaluated comprehensive water resource improvements associated with hurricane and storm damage risk reduction, shoreline erosion, salt water intrusion and fish and wildlife preservation in three coastal counties of Mississippi. As described in the Comprehensive Plan, the SEIS will address potential impacts associated with the comprehensive restoration of the Mississippi barrier islands. These actions are related to the consequences of hurricanes in the Gulf of Mexico in 2005 and will be used as a basis for ensuring compliance with the National Environmental Policy Act (NEPA).

ADDRESSES: Questions about the proposed action and the DSEIS should be addressed to Mr. Larry Parson, or Dr. Susan Ivester Rees, Planning and Environmental Division, Mobile District, U.S. Army Corps of Engineers, P.O. Box 2288, Mobile, AL 36628-0001.

FOR FURTHER INFORMATION CONTACT: Mr. Larry Parson, (251) 694-3139 or e-mail at larry.e.parson@usace.army.mil or Dr. Susan Ivester Rees, (251) 694-414, or e-mail at susan.i.rees@usace.army.mil.

SUPPLEMENTARY INFORMATION: 1. Hurricane Katrina made landfall in Mississippi on August 29, 2005 causing catastrophic damage to lives, property, and natural resources throughout coastal Mississippi. In response, the U.S. Congress directed the Secretary of the Army through the Corps of Engineers (the Corps) to conduct an analysis and design for comprehensive improvements or modifications to existing improvements in the coastal area of Mississippi in the interest of hurricane and storm damage reduction, prevention of saltwater intrusion, preservation of fish and wildlife, prevention of erosion, barrier island restoration, and other related water resources purposes. Further, the Corps was directed to provide interim recommendations for near term improvements by June 30, 2006, with final recommendations provided by December 30, 2007. Environmental impacts associated with implementation of 15 interim projects were addressed in an Environmental Assessment and a Finding of No Significant Impact signed on June 29, 2006.

2. The MsCIP Comprehensive Plan evaluated an array of measures to promote the recovery of coastal Mississippi from the hurricanes of 2005 and to provide for a coast resilient to future storm events. The Integrated Programmatic EIS evaluated multiple natural and engineered alternatives to provide various measures for various levels of risk reduction and restoration for the Mississippi coast. Formulation of the comprehensive plan involved identifying potential “Lines of Defense” moving from offshore to nearshore, shoreline, and along existing natural features inland, to possibly reduce damage from hurricane and storm events. This analysis included restoration of the barrier islands, nearshore features such as rubble and movable wall breakwaters, beachfront measures such as dunes, berms, and seawalls, coastal roadways and beach front property barriers such as elevation of roadways and property, and various other inland features such as installation of levees, elevated highway-topped levee systems, and surge protection gates, for potential inclusion in the overall damage reduction system. Consideration of “non-structural measures”, such as acquisition and relocation of structures, hurricane evaluation, floodplain management, building codes and other event planning activities also serve as important hurricane and storm damage reduction planning features. Other alternatives considered restoration of storm damaged habitats such as coastal marshes, beaches, forests, oyster reefs, and submerged aquatic vegetation in Mississippi Sound and on the Mississippi mainland; restoration of historical water flows to coastal watersheds including freshwater diversion from Louisiana; and watershed based drainage modifications for flood damage reduction. The EIS identified, screened, evaluated, prioritized, and optimized an array of alternatives.

3. The Draft SEIS. As discussed in the Integrated Programmatic EIS, a supplement would be prepared to address the borrow sources and placement areas for the Mississippi Barrier Islands Restoration. This is phase II of the plan described in the Programmatic EIS. Under phase I, the general plan of the barrier islands restoration was addressed; however the final design was not completed because the borrow sources were not identified.

The Comprehensive Barrier Island Restoration consists of the placement of approximately 22 million cubic yards of sand within the National Park Service's Gulf Islands National Seashore, Mississippi unit. Between 13-16 million cubic yards of sand would be used to close Camille Cut between East Ship Island and West Ship Island, which originally was opened by Hurricane Camille, through the construction of a low level dune system. The remaining sand would be placed in the littoral zones at the eastern ends of Ship and Petit Bois Islands. This would result in the restoration of 1,150 acres of critical coastal zone habitats and improvement to the water quality of the Mississippi Sound and provide incidental protection to two cultural sites on Ship Island listed on the National Register of Historic Places. In addition, the project would include the restoration of Cat Island using 1-2 million cubic yards of sand which are not included in the 22 million cubic yards of sand.

4. Public Involvement: a. The Corps has conducted extensive public involvement during the Comprehensive Plan and Integrated Programmatic EIS of June 2009. Since April 2006, the Corps Mobile District has hosted over 90 public involvement events, including 12 formal public and agency meetings, a 2-day Regional coordination meeting, a Public Scoping workshop, 3 online meetings, a Public Hearing workshop, and numerous internal meetings, which the agencies were invited to participate. The Corps also launched a project website enabling user downloads, project team collaboration, and communication among agencies and the public. This Web site will be updated with information on the SEIS for the Mississippi Barrier Island Restoration Project throughout the NEPA process: http://www.mscip.usace.army.mil.

b. The SEIS will analyze potential environmental impacts and benefits associated with proposed borrow and placement sites. Specifically, the following major issues will be analyzed in the SEIS: Water quality, threatened and endangered species, essential fish habitat and other marine habitat, cultural resources, parks and protected lands, wetlands, and cumulative impacts.

c. The Corps will serve as the lead Federal agency during preparation of the SEIS. The following agencies have been invited to participate as cooperating agencies: U.S. Environmental Protection Agency; U.S. Department of the Interior—Fish and Wildlife Service, National Park Service, U.S. Geological Survey, U.S. Department of Transportation—Federal Highway Administration; U.S. Department of Commerce—National Oceanic and Atmospheric Administration and the National Marine Fisheries Service; U.S. Department of Homeland Security—Federal Emergency Management Agency; U.S. Department of Agriculture—Natural Resources Conservation Service; Mississippi Department of Marine Resources; Mississippi Department of Environmental Quality, and Mississippi Department of Archives and History; Mississippi Museum of Natural Science; Mississippi Department of Transportation; Mississippi Emergency Management Agency and the Gulf Regional Planning Commission. Participation from other agencies, interest groups, and individual citizens is being encouraged and sought.

5. It is anticipated that the SEIS will be made available for public review in December 2010.

Curtis M. Flakes,
Chief, Planning and Environmental Division.

[FR Doc. 2010-26493 Filed 10-20-10; 8:45 am]

BILLING CODE 3720-58-P